DEPARTMENT OF COMMERCE

National Oceanic and Atmospheric Administration

[RTID 0648-XW030]

General Advisory Committee to the U.S. Section to the Inter-American Tropical Tuna Commission and Scientific Advisory Subcommittee to the General Advisory Committee; and U.S. Stakeholder Call; Meeting Announcements

AGENCY: National Marine Fisheries Service (NMFS), National Oceanic and Atmospheric Administration (NOAA), Commerce.

ACTION: Notice of public meeting; format revision and cancellation of meeting.

SUMMARY: NMFS announces a revision to the format of the public meeting of the Scientific Advisory Subcommittee (SAS) to the General Advisory Committee (GAC) scheduled on June 17, 2020, and a public meeting of the GAC to the U.S. Section to the Inter-American Tropical Tuna Commission (IATTC) scheduled on June 18, 2020. These meetings will now be held solely via webinar instead of in-person, due to the current local guidance and travel restrictions. The timing of the meetings is adjusted accordingly. Additionally, NMFS announces that the U.S. Stakeholder conference call to discuss IATTC tropical tuna management in the eastern Pacific Ocean scheduled for May 22, 2020, is cancelled, and the content of that call will be included in the SAS and GAC webinars. The meeting topics are described under the SUPPLEMENTARY INFORMATION section of this notice.

DATES: The meeting of the SAS will be held on June 17, 2020, from 10 a.m. to 3 p.m. PDT (or until business is concluded). The meeting of the GAC will be held on June 18, 2020, from 8:30 a.m. to 3:30 p.m. PDT (or until business is concluded).

ADDRESSES: Please notify William Stahnke (see FOR FURTHER INFORMATION CONTACT) by May 29, 2020, if you plan to attend either or both webinars. Instructions will be emailed to meeting participants before the meetings occur.

FOR FURTHER INFORMATION CONTACT: William Stahnke, West Coast Region, NMFS, at william.stahnke@noaa.gov, or at (562) 980-4088.

SUPPLEMENTARY INFORMATION: On March 5, 2020, NMFS announced that it scheduled a public meeting of the SAS to the GAC on June 17, 2020, and a public meeting of the GAC to the U.S. Section to the IATTC on June 18, 2020 (85 FR 12907). However, due to the current local guidance and travel restrictions, NMFS is holding these meetings solely by webinar, instead of in-person as previously announced. In addition, on March 5, 2020, NMFS announced a public meeting via conference call with U.S. stakeholders to discuss issues related to IATTC tropical tuna management in the eastern Pacific Ocean that was scheduled on May 22, 2020, from 11 a.m. to 1 p.m. PDT (85 FR 12907). NMFS is canceling that conference call and including the content of that call in the SAS and GAC webinars. Tropical tunas will be an agenda item for both webinars, focusing on the new models and stock assessment results during the SAS webinar, and management options during the GAC webinar. While SAS and GAC members will discuss first, public stakeholders will have an opportunity to provide input as well.

In accordance with the Tuna Conventions Act (16 U.S.C. 951 et seq.), the U.S. Department of Commerce, in consultation with the Department of State (the State Department), appoints a GAC to the U.S. Section to the IATTC, and a SAS that advises the GAC. The U.S. Section consists of the four U.S. Commissioners to the IATTC and representatives of the State Department, NOAA, Department of Commerce, other U.S. Government agencies, and stakeholders. The GAC advises the U.S. Section with respect to U.S. participation in the work of the IATTC, focusing on the development of U.S. policies, positions, and negotiating tactics. The purpose of the SAS is to advise the GAC on scientific matters. NMFS West Coast Region staff provide administrative support for the GAC and SAS. The meetings of the GAC and SAS are open to the public, unless in executive session. The time and manner of public comment will be at the discretion of the Chairs for the GAC and SAS. The SAS and GAC meetings will no longer be held in-person in the Pacific Conference Room at NMFS, Southwest Fisheries Science Center in La Jolla, California, and will instead be held by webinar only.

Currently, the 95th meeting of the IATTC, the 41st Meeting of the Parties to the Agreement on the International Dolphin Conservation Program (AIDCP), and IATTC and AIDCP working group meetings are scheduled to be held from August 3 to August 15, 2020, in La Jolla, California. For more information and updates on these meetings, please visit the IATTC's website: https://www.iattc.org/MeetingsENG.htm.

SAS and GAC Meeting Topics

In a memorandum from the IATTC Director to the IATTC Commissioners and Heads of Delegation on April 27, 2020 (Ref. No. 0189-410), the IATTC Director announced a phased approach to the 2020 meeting of the Scientific Advisory Committee (SAC) to the IATTC, which is currently still being discussed. Depending on the outcome of those discussions, and the final approach to the 2020 meeting of the SAC to the IATTC, the SAS and GAC meeting topics described below may need to be adjusted.

The SAS meeting agenda will include, but is not limited to, the following topics:

(1) Outcomes of the 2020 stock assessments and stock status updates for tuna, tuna-like species, and other species caught in association with those fisheries in the eastern Pacific Ocean;

(2) Evaluation of the IATTC Staff's Recommendations to the Commission for 2020;

(3) Issues related to non-target species, such as sharks, seabirds, sea turtles;

(4) Evaluation of U.S. priorities for the 95th meeting of the IATTC and priorities from other IATTC members; and

(5) Other issues as they arise.

The GAC meeting agenda will include, but is not limited to, the following topics:

(1) Outcomes of the 2020 stock assessments and stock status updates for tuna, tuna-like species, and other species caught in association with those fisheries in the eastern Pacific Ocean;

(2) Issues related to non-target species, such as sharks, seabirds, sea turtles;

(3) Recommendations and evaluations by the SAS;

(4) Recommendations to the U.S. Section on issues that may arise at the 95th meeting of the IATTC, including the IATTC Staff's Recommendations to the Commission, U.S. priorities, and priorities from other IATTC members; and

(5) Other issues as they arise.

Special Accommodations

Requests for sign language interpretation or other auxiliary aids should be directed to William Stahnke (see FOR FURTHER INFORMATION CONTACT) by May 29, 2020.

Authority: 16 U.S.C. 951 et seq.

Dated: May 14, 2020.
Hélène M.N. Scalliet,
Acting Director, Office of Sustainable Fisheries, National Marine Fisheries Service.

[FR Doc. 2020-10774 Filed 5-14-20; 4:15 pm]

BILLING CODE 3510-22-P